DEPARTMENT OF TRANSPORTATION

Federal Aviation Administration

14 CFR Part 39

[Docket No. FAA-2025-0915; Project Identifier MCAI-2025-00255-T; Amendment 39-23050; AD 2025-11-04]

RIN 2120-AA64

Airworthiness Directives; Israel Aircraft Industries Ltd. Airplanes

AGENCY: Federal Aviation Administration (FAA), DOT.

ACTION: Final rule; request for comments.

SUMMARY: The FAA is adopting a new airworthiness directive (AD) for all Israel Aircraft Industries Ltd. Model 1124 and 1124A airplanes. This AD was prompted by the need to ensure proper thrust reverser system status and function and to minimize the possibility of thrust reverser operation in flight or before landing. This AD requires revising the limitations and normal procedures sections of the existing airplane flight manual (AFM). The FAA is issuing this AD to address the unsafe condition on these products.

DATES: This AD is effective June 23, 2025.

The Director of the Federal Register approved the incorporation by reference of certain publications listed in this AD as of June 23, 2025.

The FAA must receive comments on this AD by July 21, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0915; or in person at Docket Operations between 9 a.m. and 5 p.m., Monday through Friday, except Federal holidays. The AD docket contains this final rule, the mandatory continuing airworthiness information (MCAI), any comments received, and other information. The street address for Docket Operations is listed above.

Material Incorporated by Reference:

• For Israel Aircraft Industries material identified in this AD, contact Israel Aircraft Industries, Ltd., Ben Gurion International Airport 70100, Israel; telephone 972-3-9353090; email Aviation_Group@iai.co.il; website iai.co.il.

• You may view this material at the FAA, Airworthiness Products Section, Operational Safety Branch, 2200 South 216th St., Des Moines, WA. For information on the availability of this material at the FAA, call 206-231-3195. It is also available at regulations.gov under Docket No. FAA-2025-0915.

FOR FURTHER INFORMATION CONTACT: Alexis Whitaker, Aviation Safety Engineer, FAA, 1600 Stewart Avenue, Suite 410, Westbury, NY 11590; phone: (516) 228-7309; email: 9-AVS-AIR-BACO-COS@faa.gov.

SUPPLEMENTARY INFORMATION:

Comments Invited

The FAA invites you to send any written relevant data, views, or arguments about this final rule. Send your comments using a method listed under the ADDRESSES section. Include “Docket No. FAA-2025-0915; Project Identifier MCAI-2025-00255-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Alexis Whitaker, Aviation Safety Engineer, FAA, 1600 Stewart Avenue, Suite 410, Westbury, NY 11590; phone: (516) 228-7309; email: Alexis.J.Whitaker@faa.gov. Any commentary that the FAA receives which is not specifically designated as CBI will be placed in the public docket for this rulemaking.

Background

The Civil Aviation Authority of Israel (CAAI), which is the aviation authority for Israel, has issued CAAI AD ISR I-78-2025-03-01, dated March 4, 2025 (referred to as “the MCAI”), to correct an unsafe condition on all Israel Aircraft Industries Ltd. Model 1124 and 1124A airplanes. The MCAI states that action is necessary to ensure proper thrust reverser system status and function while airborne and to prohibit deployment before landing. Accordingly, the MCAI requires revising the AFM to incorporate temporary thrust reverser limitations and procedures.

The FAA is issuing this AD to prevent deployment of a thrust reverser in flight or before landing. The unsafe condition, if not addressed, could result in loss of control of the airplane. You may examine the MCAI in the AD docket at regulations.gov under Docket No. FAA-2025-0915.

Material Incorporated by Reference Under 1 CFR Part 51

The FAA reviewed Israel Aircraft Industries Ltd. 1124-Westwind Airplane Flight Manual (AFM) Temporary Revision (TR) No. 8 and Israel Aircraft Industries Ltd. 1124A-Westwind AFM TR No. 9, both dated March 13, 2024. This material provides revised thrust reverser operating limitations and revised normal procedures for the thrust reversers during taxi, take-off, and before landing. These documents are distinct since they apply to different airplane models. This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI and material referenced above. The FAA is issuing this AD after determining that the unsafe condition described previously is likely to exist or develop on other products of the same type design.

AD Requirements

This AD requires revising the limitations and normal procedures sections of the existing AFM.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because the revised operating limitations and procedures will minimize the possibility of thrust reverser operation in flight or before landing, which if not addressed could result in loss of control of the airplane. Additionally, the actions required by this AD must be accomplished before further flight. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 76 airplanes of U.S. registry. The FAA estimates the following costs to comply with this AD:

Estimated Costs for Required Actions
Action | Labor cost | Parts cost | Cost per product | Cost on U.S. operators
AFM revision | 1 work-hour × $85 per hour = $85 | $0 | $85 | $6,460

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-11-04 Israel Aircraft Industries, Ltd.: Amendment 39-23050; Docket No. FAA-2025-0915; Project Identifier MCAI-2025-00255-T.

(a) Effective Date

This airworthiness directive (AD) is effective June 23, 2025.

(b) Affected ADs

None.

(c) Applicability

This AD applies to all Israel Aircraft Industries Ltd. Model 1124 and 1124A airplanes, certificated in any category.

(d) Subject

Air Transport Association (ATA) of America Code 78, Engine Exhaust.

(e) Reason

This AD was prompted by the need to ensure proper thrust reverser system status and function and to minimize the possibility of thrust reverser operation in flight or before landing. The FAA is issuing this AD to prevent deployment of a thrust reverser in flight or before landing. The unsafe condition, if not addressed, could result in loss of control of the airplane.

(f) Compliance

Comply with this AD within the compliance times specified, unless already done.

(g) Revision of Existing Airplane Flight Manual (AFM)

Before further flight after the effective date of this AD, revise the Limitations and Normal Procedures sections of the existing AFM to include the information specified in pages I-9, IV-18, IV-21, and IV-25 in Israel Aircraft Industries Ltd. 1124-Westwind AFM Temporary Revision (TR) No. 8, dated March 13, 2024, or Israel Aircraft Industries Ltd. 1124A-Westwind AFM TR No. 9, dated March 13, 2024, as applicable to your model airplane. Using a different document with information identical to the information in the TR pages is acceptable for compliance with the requirements of this paragraph.

(h) Special Flight Permits

Special flight permits, as described in 14 CFR 21.197 and 21.199, are prohibited.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or the Civil Aviation Authority of Israel (CAAI); or the CAAI's authorized Designee. If approved by the CAAI Designee, the approval must include the Designee's authorized signature.

(j) Additional Information

For more information about this AD, contact Alexis Whitaker, Aviation Safety Engineer, FAA, 1600 Stewart Avenue, Suite 410, Westbury, NY 11590; phone: (516) 228-7309; email: 9-AVS-AIR-BACO-COS@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) Israel Aircraft Industries Ltd. 1124-Westwind Airplane Flight Manual (AFM) Temporary Revision (TR) No. 8, dated March 13, 2024.

(ii) Israel Aircraft Industries Ltd. 1124A-Westwind AFM TR No. 9, dated March 13, 2024.

(3) For Israel Aircraft Industries material identified in this AD, contact Israel Aircraft Industries, Ltd., Ben Gurion International Airport 70100, Israel; telephone 972-3-9353090; email Aviation_Group@iai.co.il; website iai.co.il.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on June 2, 2025.
Steven W. Thompson,
Acting Deputy Director, Compliance & Airworthiness Division, Aircraft Certification Service.

[FR Doc. 2025-10318 Filed 6-5-25; 8:45 am]

BILLING CODE 4910-13-P